DEPARTMENT OF DEFENSE

Office of the Secretary

[Docket ID DoD-2008-OS-0132]

Privacy Act of 1974; Systems of Records

AGENCY: Defense Finance and Accounting Service, DoD.

ACTION: Notice to add a new system of records.

SUMMARY: The Defense Finance and Accounting Service (DFAS) is proposing to add a new system of records notice to its inventory of record systems subject to the Privacy Act of 1974, (5 U.S.C. 552a), as amended.

DATES: This Action will be effective without further notice on December 12, 2008, unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service systems of records notices subject to the Privacy Act of 1974 (5 U.S.C. 552a), as amended, have been published in the Federal Register and are available from the address above.

The proposed system report, as required by 5 U.S.C. 552a(r) of the Privacy Act of 1974, as amended, was submitted on October 21, 2008, to the House Committee on Government Reform, the Senate Committee on Homeland Security and Governmental Affairs, and the Office of Management and Budget (OMB) pursuant to paragraph 4c of Appendix I to OMB Circular No. A-130, `Federal Agency Responsibilities for Maintaining Records About Individuals,” dated December 12, 2000, 65 FR 239.

Dated: November 3, 2008.
Morgan E. Frazier,
Alternate OSD Federal Register Liaison Officer, Department of Defense.

T7335b

System name:

Electronic Business-Labor and Accounting Report (E-BIZ) Records

System location:

Defense Information Systems Agency (DISA), 701 South Courthouse Road, Arlington, VA 22204-2199.

Defense Enterprise Computing Center (DECC), CDC4, 3990 East Broad Street, Columbus, Ohio 43213-1152.

Categories of individuals covered by the system:

DoD civilian employees.

Categories of records in the system:

Social Security Number (SSNs), name, time and attendance information, leave balances, purchase information, disbursements, workcounts, cost allocation, and manpower data.

Authority for maintenance of the system:

5 U.S.C. 301, Departmental Regulations, Defense Financial Management Regulation (DoDFMR) 7000.14-R, Vol 8; 31 U.S.C. 3512, Executive agency accounting and other financial management reports and plans; 31 U.S.C. 3513, Financial reporting and accounting system and E.O. 9397 (SSN).

Purpose(s):

The Defense Finance and Accounting Service (DFAS) is proposing to establish a system or records in support of its core financial management mission. The system will be used as a feeder system that has a suite of business processes that will integrate resource, accounting, financial and other business functions into a comprehensive management information planning system. The data will include budget information, manpower data, performance measures,workload management, time and attendance, labor reporting, work counts, cost accounting, funds control, accounts payable and receivable, general ledger, and financial reporting. It will be used to produce useful, timely and accurate management andfinancial data, allow users to do analysis and reconciliation to ensure data accuracy, provide decision and planning tools for management, and provide timely and accurate financial statements.

Routine uses of records maintained in the system, including categories of users and the purposes of such uses:

In addition to those disclosures generally permitted under 5 U.S.C. 552a(b) of the Privacy Act, these records or information contained therein may specifically be disclosed outside the Department of Defense as a routine use pursuant to 5 U.S.C. 552a(b)(3) as follows:

The DoD “Blanket Routine Uses” published at the beginning of the DFAS compilation of systems of records notices apply to this system.

Policies and practices for storing, retrieving, accessing, retaining, and disposing of records in the system:

Storage:

Paper records and electronic storage media.

Retrievability:

By name and/or Social Security Number (SSN).

Safeguards:

Records are stored in an office building protected by guards, controlled screening, use of visitor registers, electronic access, and/or locks. Access to records is limited to authorized individuals who are properly screened and cleared on a need-to-know basis in the performance of their official duties. Passwords and digital signatures are used to control access to the system data, and procedures are in place to deter and detect browsing and unauthorized access. Physical and electronic access are limited to persons responsible for servicing and authorized to use the system.

Retention and disposal:

Records are cut off at the end of the payroll year and destroyed after audit or when six years old, whichever is sooner. Records are destroyed by degaussing the electronic media and recycling hardcopy records. The recycled hardcopies are destroyed by shredding, burning, or pulping.

System manager(s) and address:

Defense Finance and Accounting Service, E-Biz System Manager, Program Management Office, Building 11, Section 6, 3990 East Broad St, Columbus, Ohio 43213-1152.

Notification procedure:

An individual seeking to determine whether information about themselves is contained in this system of records should address written inquiries to the Defense Finance and Accounting Service, Freedom of Information/Privacy Act Program Manager, Corporate Communications and Legislative Liaison, 6760 E. Irvington Place, Denver, CO 80279-8000.

Individuals should furnish full name, Social Security Number (SSN), current address, and telephone number.

Record access procedures:

An individual seeking access to information about themselves that is contained in this system should address written inquiries to Defense Finance and Accounting Service, Freedom of Information/Privacy Act Program Manager, Corporate Communications and Legislative Liaison, 6760 E. Irvington Place, Denver, CO 80279-8000.

Individuals should furnish full name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

Records are obtained from the individual concerned, and DoD Components.

Exemptions claimed for the system:

None.

[FR Doc. E8-26762 Filed 11-10-08; 8:45 am]

BILLING CODE 5001-06-P